Proclamation 8972 of April 30, 2013

Law Day, U.S.A., 2013

By the President of the United States of America

A Proclamation

As a Nation, we are bound together not by the colors of our skin, the tenets of our faith, or the origins of our names. What unites us as Americans is our allegiance to an idea articulated more than two centuries ago: that “all men are created equal; that they are endowed by their Creator with certain unalienable rights; that among these are life, liberty, and the pursuit of happiness.” In the years since that declaration, we not only forged a Republic of, by, and for the people; we also set ourselves to the task of perfecting it, and bridging the meaning of those words with the realities of our time.

This Law Day, we look back on our long journey toward equality for all. We reflect on the Emancipation Proclamation, issued by President Abraham Lincoln 150 years ago to mend a Nation half-slave and half-free under the unifying promise of liberty. We remember when Dr. Martin Luther King, Jr., stood in Lincoln's shadow a century later and gave voice to a dream, sounding the call for an America that truly lives out the meaning of its founding creed. We honor the courageous men and women who fought to bring those ageless ideals of freedom and fairness into the rule of law—from the Civil Rights Act and the Voting Rights Act to Title IX and the Americans with Disabilities Act.

Even now, that work is not yet finished. Opportunity remains painfully unequal for too many among us; justice too often goes undone. Law Day is a chance to reaffirm the critical role our courts have always played in addressing those wrongs and aligning our Nation with its first principles. Let us mark this occasion by celebrating that history, upholding the right to due process, and honoring all who have sustained our proud legal tradition.

NOW, THEREFORE, I, BARACK OBAMA, President of the United States of America, in accordance with Public Law 87-20, as amended, do hereby proclaim May 1, 2013, as Law Day, U.S.A. I call upon all Americans to acknowledge the importance of our Nation's legal and judicial systems with appropriate ceremonies and activities, and to display the flag of the United States in support of this national observance.

IN WITNESS WHEREOF, I have hereunto set my hand this thirtieth day of April, in the year of our Lord two thousand thirteen, and of the Independence of the United States of America the two hundred and thirty-seventh.

[FR Doc. 2013-10754

Filed 5-2-13; 11:15 am]

Billing code 3295-F3